DEPARTMENT OF THE INTERIOR

Fish and Wildlife Service

Endangered and Threatened Species Permit Applications

AGENCY: Fish and Wildlife Service, Interior.

ACTION: Notice of receipt of applications.

SUMMARY: The following applicants have applied for permits to conduct certain activities with endangered species. This notice is provided pursuant to section 10(c) of the Endangered Species Act of 1973, as amended (16 U.S.C. 1531, et seq.).

DATES: Written data or comments must be received on or before October 17, 2005.

ADDRESSES: Send written data or comments to the Regional Director, U.S. Fish and Wildlife Service, Ecological Services, 1 Federal Drive, Fort Snelling, Minnesota 55111-4056.

FOR FURTHER INFORMATION CONTACT: Mr. Peter Fasbender, (612) 713-5343.

SUPPLEMENTARY INFORMATION:

Permit Number: TE087770-1

Applicant: Kimberly Livengood.

The applicant requests a permit amendment to take the Indiana bat (Myotis sodalis) and gray bat (M. grisescens) in Illinois. The scientific research is aimed at enhancement of survival of the species in the wild.

Permit Number: TE106545-1

Applicant: Melody Meyers-Kinzie.

The applicant requests a permit amendment to take clubshell (Pluerobema clava), rough pigtoe (P. plenum), fanshell (Cyprogenia stegaria), and northern riffleshell (Epioblasma torulosa rangiana) throughout Kentucky. The scientific research is aimed at enhancement of survival of the species in the wild.

Permit Number: TE108952

Applicant: Debra Scott.

The applicant requests a permit amendment to take the Indiana bat (Myotis sodalist) in Illinois. The scientific research is aimed at enhancement of survival of the species in the wild.

Permit Number: TE839763-6

Applicant: John Whitaker, Indiana State University.

The applicant requests a permit amendment to take the Indiana bat (Myotis sodalist) throughout the range of the species. The scientific research is aimed at enhancement of survival of the species in the wild.

Permit Number: TE056081-4

Applicant: EnviroScience, Inc., Stow, Ohio.

The applicant requests a permit amendment to take endangered mussels in Florida. The scientific research is aimed at enhancement of survival of the species in the wild.

Permit Number: TE088720-1

Applicant: G. Tom Watters, Columbus, Ohio.

The applicant requests a permit to take endangered mussels in Florida and hold in Ohio for host identification and propagation efforts. The scientific research is aimed at enhancement of survival of the species in the wild.

Dated: August 10, 2005.
Wendi Weber,
Assistant Regional Director, Ecological Services, Region 3, Fort Snelling, Minnesota.

[FR Doc. 05-18317 Filed 9-14-05; 8:45 am]

BILLING CODE 4310-55-P